DEPARTMENT OF ENERGY

Federal Energy Regulatory Commission

[Docket No. EL09-50-000]

Louisiana Public Service Commission Complainant; Notice of Amended Complaint; Entergy Corporation, Entergy Services, Inc., Entergy Louisiana, LLC., Entergy Arkansas, Inc., Entergy Mississippi, Inc., Entergy New Orleans, Inc., Entergy Gulf States Louisiana, Inc., Entergy Texas, Inc., Respondents

June 5, 2009.

Take notice that on June 5, 2009, the Louisiana Public Service Commission (Complainant) filed an amendment to its May 1, 2009 Complaint, requesting to remove all issues and claims in Paragraphs 32 through 51 which relate to the “Union Pacific Settlement” and the “Texas Rate Freeze Disallowance.” These issues were resolved in an Offer of Settlement and Partial Settlement Agreement among all active parties, who all support the Offer of Settlement filed with the Commission on May 21, 2009, in Docket No. ER08-1056-000.

The Complainant states that a copy of the complaint has been served on the Respondent.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on June 25, 2009.

Kimberly D. Bose,
Secretary.

[FR Doc. E9-13789 Filed 6-11-09; 8:45 am]

BILLING CODE 6717-01-P